DEPARTMENT OF COMMERCE

National Oceanic and Atmospheric Administration

RIN 0648-XE059

Pacific Fishery Management Council; Public Meeting

AGENCY: National Marine Fisheries Service (NMFS), National Oceanic and Atmospheric Administration (NOAA), Commerce.

ACTION: Notice of public meeting (workshop).

SUMMARY: The Pacific Fishery Management Council (Pacific Council), in collaboration with NMFS and NOAA's Southwest Fisheries Science Center (SWFSC), will convene a scientific workshop to consider the distribution of the northern subpopulation of Pacific sardine. The workshop is open to the public.

DATES: The workshop will take place August 17-19, 2015. Meeting times are Monday, August 17, from 1 p.m. to 6 p.m., Tuesday, August 18, from 8 a.m. to 6 p.m., and Wednesday, August 19, from 8 a.m. to 12 noon or until business for the workshop is complete.

ADDRESSES: The meeting will be held at the SWFSC Pacific Conference Room, 8901 La Jolla Shores Drive, La Jolla, CA 92037.

FOR FURTHER INFORMATION CONTACT: Kerry Griffin, Staff Officer; telephone: (503) 820-2409.

SUPPLEMENTARY INFORMATION: The purpose of the workshop is to consider scientific information, data, and potential alternative means for establishing the Distribution value used in the Pacific sardine harvest control rule (HCR). The workshop is not intended as a review of other aspects of the HCR, Pacific sardine harvest management, or policy. The current Distribution value of 0.87 is intended to account for the fact that some portion of the U.S. sardine stock is present and subject to harvest outside U.S. waters. It is intended as a long-term average, recognizing that the distribution is variable because the sardine stock migrates seasonally and interannually.

Special Accommodations

The meeting is physically accessible to people with disabilities. Requests for sign language interpretation or other auxiliary aids should be directed to Mr. Dale Sweetnam, (858) 546-7170, at least 5 days prior to the meeting date.

Dated: July 27, 2015.
Tracey L. Thompson,
Acting Deputy Director, Office of Sustainable Fisheries, National Marine Fisheries Service.

[FR Doc. 2015-18663 Filed 7-29-15; 8:45 am]

BILLING CODE 3510-22-P